DEPARTMENT OF THE INTERIOR

Bureau of Land Management

[MT-926-07-1910-BJ-5GEV]

Montana: Filing of Plat of Survey

AGENCY: Bureau of Land Management, Montana State Office, Interior.

ACTION: Notice of Filing of Plat of Survey.

SUMMARY: The Bureau of Land Management (BLM) will file the plat of survey of the lands described below in the BLM Montana State Office, Billings, Montana, (30) days from the date of publication in the Federal Register.

FOR FURTHER INFORMATION CONTACT: Marvin Montoya, Cadastral Surveyor, Branch of Cadastral Survey, Bureau of Land Management, 5001 Southgate Drive, Billings, Montana 59101-4669, telephone (406) 896-5124 or (406) 896-5009.

SUPPLEMENTARY INFORMATION: This survey was executed at the request of the Cheyenne River Agency, through the Great Plains Regional Director, Bureau of Indian Affairs and was necessary to determine Trust and Tribal lands.

The lands we surveyed are:

Black Hills Meridian, South Dakota

T. 8 N., R. 23 E.

The plat, in 2 sheets, representing the dependent resurvey of a portion of the Second Standard Parallel North, through Range 23 East, a portion of the subdivisional lines, a portion of the subdivision of section 5, a portion of the adjusted 1931 meanders of the left bank of the Cheyenne River, downstream, through sections 2 and 5, and the survey of portions of the meanders of the present left bank of the Cheyenne River, downstream, through sections 2 and 5, and certain division of accretion lines, in Township 8 North, Range 23 East, Black Hills Meridian, South Dakota, was accepted March 7, 2007.

We will place copies of the plat only, in 2 sheets, we described in the open files. They will be available to the public as a matter of information.

If BLM receives a protest against this survey, as shown on this plat, in 2 sheets, prior to the date of the official filing, we will stay the filing pending our consideration of the protest.

We will not officially file this plat, in 2 sheets, until the day after we have accepted or dismissed all protests and they have become final, including decisions or appeals.

Dated: March 9, 2007.
Michael T. Birtles,
Chief Cadastral Surveyor, Division of Resources.

[FR Doc. E7-4910 Filed 3-16-07; 8:45 am]

BILLING CODE 4310-$$-P